DEPARTMENT OF COMMERCE

National Oceanic and Atmospheric Administration

RIN 0648-XC184

Marine Mammals; File No. 17403

AGENCY: National Marine Fisheries Service (NMFS), National Oceanic and Atmospheric Administration (NOAA), Commerce.

ACTION: Notice; receipt of application.

SUMMARY: Notice is hereby given that Robert Pilley, Leighside, Bridge Road, Leighwoods, Bristol, BS8 3PB, United Kingdom, has applied in due form for a permit to conduct commercial/educational photography on bottlenose dolphins (Tursiops truncatus).

DATES: Written, telefaxed, or email comments must be received on or before September 24, 2012.

ADDRESSES: The application and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Colette Cairns or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216). Section 104(c)(6) provides for photography for educational or commercial purposes involving non-endangered and non-threatened marine mammals in the wild.

Mr. Pilley requests a five-year photography permit to film bottlenose dolphin strand-feeding events in the estuaries and creeks of Bull Creek and around Hilton Head, South Carolina, and mud-plume feeding events in the waters of the Florida Keys. Filmmakers plan to use three filming platforms: a static, remotely-operated camera placed on the mudflats, a radio-controlled camera helicopter, and a radio-controlled camera boat. For both locations combined, up to 196 dolphins annually may be approached and filmed. Filming would occur over 14 days in each location. Footage would be used in two wildlife education documentaries: “Earthflight 3D”, and “Dolphins-Spy in the Pod”, both for the British Broadcasting Corporation and Discovery Channel.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 21, 2012.
Tammy C. Adams,
Acting Chief, Permits and Conservation Division, Office of Protected Resources, National Marine Fisheries Service.

[FR Doc. 2012-20931 Filed 8-23-12; 8:45 am]

BILLING CODE 3510-22-P